DEPARTMENT OF ENERGY

Hydrogen and Fuel Cell Technical Advisory Committee (HTAC)

AGENCY: Department of Energy, Office of Energy Efficiency and Renewable Energy.

ACTION: Notice of open meeting, Webinar.

SUMMARY: This notice announces an open meeting of the Hydrogen and Fuel Cell Technical Advisory Committee (HTAC). The HTAC was established under section 807 of the Energy Policy Act of 2005 (EPACT), Public Law 109-58; 119 Stat. 849. The Federal Advisory Committee Act (Pub. L. 92-463, 86 Stat. 770) requires that agencies publish notice of an advisory committee meeting in the Federal Register. To attend the meeting and/or to make oral statements during the public comment period, please email HTAC@nrel.gov at least 5 business days before the meeting. Please indicate if you will attend the webinar meeting, whether you want to make an oral statement, and what organization you represent.

DATES: Thursday, February 9, 2012, 10 a.m.-1 p.m.

ADDRESSES: The meeting will be convened on-line via Webinar conference. Preregistration is required. The public may register through email at HTAC@nrel.gov, webinar registration information will be provided.

FOR FURTHER INFORMATION CONTACT: HTAC@nrel.gov via email.

SUPPLEMENTARY INFORMATION: Purpose of the Meeting: To provide advice, information, and recommendations to the Secretary on the program authorized by title VIII of EPACT.

Tentative Agenda: (Subject to change; updates will be posted on http://hydrogen.energy.gov).

• Public Comment (10 minutes)

• Discussion of HTAC's draft annual report

Public Participation: In keeping with procedures, members of the public are welcome to observe the business of the meeting of HTAC and to make oral statements during the specified period for public comment. The public comment period will take place between 10 a.m. and 10:15 a.m. on February 9, 2012. To attend the meeting and/or to make oral statements regarding any of the items on the agenda, email HTAC@nrel.gov at least 5 business days before the meeting. Please indicate if you will be attending the meeting, whether you want to make an oral statement, and what organization you represent (if appropriate). Members of the public will be heard in the order in which they sign up for the public comment period. Oral comments should be limited to two minutes in length. Reasonable provision will be made to include the scheduled oral statements on the agenda. The chair of the committee will make every effort to hear the views of all interested parties and to facilitate the orderly conduct of business. If you would like to file a written statement with the committee, you may do so either by submitting a hard copy at the meeting or by submitting an electronic copy to HTAC@nrel.gov.

Minutes: The minutes of the meeting will be available for public review at http://hydrogen.energy.gov. or by contacting Jason Marcinkoski at (202) 586-7466 for a copy.

Issued at Washington, DC, on January 13, 2012.
Rachel Samuel,
Deputy Committee Management Officer.

[FR Doc. 2012-951 Filed 1-18-12; 8:45 am]

BILLING CODE 6450-01-P